DEPARTMENT OF DEFENSE

Office of the Secretary

32 CFR Part 64

[Docket ID: DOD-2016-OS-0096]

RIN 0790-AJ52

Management and Mobilization of Regular and Reserve Retired Military Members

AGENCY: Office of the Under Secretary of Defense for Personnel and Readiness, DoD.

ACTION: Final rule.

SUMMARY: This final rule removes DoD's regulation concerning the management and mobilization of regular and reserve retired military members. This rule does not create the DoD's authority to recall retired members, but it directs how DoD can deploy those members once recalled into active service. Accordingly, the codified rule deals with agency management/personnel, and has been determined to not require rulemaking. Alternatively, this rule is covered by the notice-and-comment exception for military affairs, because the rule governs the uniquely military decision of how best to employ and deploy assets. Therefore, this CFR part can be removed.

DATES: This rule is effective on October 20, 2016.

FOR FURTHER INFORMATION CONTACT: Patricia Toppings at 571-372-0485.

SUPPLEMENTARY INFORMATION: Once signed, a copy of DoD's internal guidance contained in DoD Instruction 1352.01 will be made available on the DoD Directives Web site at https://www.dtic.mil/whs/directives/corres/pdf/135201p.pdf.

It has been determined that publication of this CFR part removal for public comment is impracticable, unnecessary, and contrary to public interest since it is based on removing DoD internal policies and procedures that are publically available on the Department's issuance Web site.

The removal of this rule will be reported in future status updates of DoD's retrospective review plan in accordance with the requirements in Executive Order 13563. DoD's full plan can be accessed at: http://www.regulations.gov/#!docketDetail;D=DOD-2011-OS-0036.

List of Subjects in 32 CFR Part 64

Military personnel.

PART 64—[REMOVED]

Accordingly, by the authority of 5 U.S.C. 301, 32 CFR part 64 is removed.

Dated: October 14, 2016.
Aaron Siegel,
Alternate OSD Federal Register Liaison Officer, Department of Defense.

[FR Doc. 2016-25260 Filed 10-19-16; 8:45 am]

BILLING CODE 5001-06-P